DEPARTMENT OF THE INTERIOR

Bureau of Indian Affairs

25 CFR Part 243

RIN 1076-AE37

Reindeer in Alaska

AGENCY: Bureau of Indian Affairs, Interior.

ACTION: Final rule.

SUMMARY: The Department of the Interior, Bureau of Indian Affairs (BIA), is publishing these regulations on the Alaska Native reindeer industry to implement the provisions of the Reindeer Act of 1937, as amended.

These regulations also apply to non-Natives who own, or want to own, reindeer in Alaska. These regulations provide Alaska Native reindeer owners, government officials, and those doing business with them, with procedures and policies for administration of the reindeer industry in Alaska.

DATES: Effective Date: These regulations take effect on February 13, 2006.

FOR FURTHER INFORMATION CONTACT: Warren Eastland, Wildlife Biologist, Alaska Region, Bureau of Indian Affairs, P.O. Box 25520 (3rd Floor, Federal Building), Juneau, Alaska 99802-5520. Voice (907) 586-7321, Fax (907) 586-7120.

SUPPLEMENTARY INFORMATION: The authority to issue this document is vested in the Secretary of the Interior by 5 U.S.C. 301 and the Act of September 1, 1937 (50 Stat. 900; 25 U.S.C. 500-500n). The Secretary has delegated this authority to the Principal Deputy Assistant Secretary—Indian Affairs by part 209 of the Departmental Manual.

Background

The Reindeer Act of 1937 (50 Stat. 900; 25 U.S.C. 500-500n) authorizes and directs the Secretary of the Interior to organize and manage the reindeer industry or business in Alaska in such a manner as to establish and maintain a complete and self-sustaining economy for the natives of Alaska, and to encourage and develop Alaska Native activity and responsibility in all branches of the industry or business (25 U.S.C. 500 and 500f). To preserve the Native character of the reindeer industry in Alaska, the sale or transfer of Native or government owned reindeer or reindeer products is allowed only under regulations to be developed by the Secretary (25 U.S.C. 500i).

The proposed regulation was published in the Federal Register on March 11, 2004 (69 FR 11784) with a 90-day comment period expiring on June 9, 2004. Letters calling specific attention to the proposed regulations, and the opportunity to comment, were sent to all known Alaska Native reindeer owners, herders, and their organizations. In addition to the solicitation of written comments, meetings were also held in Nome, Mekoryuk, Stebbins, and Anchorage locations where it would be convenient for reindeer owners and herders to attend. In addition to consideration of written public comments received, contact was made with the Department of the Interior, Office of Hearings and Appeals (OHA), to assure that probate-related provisions of the regulations would conform to the views and practices of the OHA. Suggestions from the OHA were received and incorporated into the relevant provisions of this final rule.

On October 26, 2004, several months after the close of the formal comment period, various interested individuals met with Warren Eastland, the designated Departmental contact, and urged that the comment period be re-opened, and the opportunity for comment extended. Concerns expressed in timely-received written comments were reiterated, but no new substantive points were articulated that would indicate the need for additional input. Accordingly, these regulations are being published in final form without further delay, although the possibility that a need for clarifying amendments will be identified at a future date always remains.

Response to Comments

Only two sets of written comments were received, but they were both reasonably comprehensive in scope. Besides commenting on the text of the proposed regulatory provisions themselves, one set of comments addressed several procedural points, and matters touched upon in the summary, background, and procedural discussions accompanying publication of the draft regulations. One comment expressed disagreement with the announced suspension of the reindeer loan program formerly administered by the BIA. It was suggested that the preamble to the final rule should clarify that the failure to publish any regulations concerning the loan program does not indicate that the program has been permanently abolished. We agree that if the resources were available it would still be legally authorized under the Reindeer Act to reestablish a reindeer loan program similar to or different from the one previously conducted. However, since the funds to operate such a program are not presently available, we see no need to address the subject in this final rule.

A second comment takes issue with the statement provided, to comply with Executive Order 12866, to the effect that there are no “entitlements, grants, fees, loan programs, or other obligations” associated with the administration of the Reindeer Act of 1937. Although the commenter asserts that Federal funding to support the reindeer industry is an entitlement of industry participants, the BIA declines to revise its original statement, because future discretionary provision of support, while authorized, is not legally mandated. Another comment challenges the statement under the same Executive Order, to the effect that the proposed rule “does not raise novel legal issues.” Although the commenter asserts that the alleged trust status of Alaska reindeer constitutes a novel legal issue, the BIA does not believe there is anything novel about its interpretation of property law as reflected in this final rule, and therefore declines to revise its statement.

Commenters also questioned the statement accompanying the publication of the draft rules, under the heading “Government to Government Relationship With Tribes,” to the effect that the proposed regulations have no potential effects on tribes because the owners of Alaska reindeer are “only individuals or groups of individuals outside of tribal governments.” The commenters point out that several reindeer herds are owned by tribal governments. The BIA acknowledges this factual oversight, and corrects it in this final rule. However, the conclusion that the rule has minimal potential effect on tribes remains generally accurate, since tribes' rights, powers, and ownership options are not significantly prescribed by the regulations, except to the limited extent that a tribe's transfer of live Alaskan reindeer to a non-Native is regulated, albeit to no greater extent than already required by the Reindeer Act itself.

Comments relating substantively to the specific sections of the proposed regulations are addressed in the following discussion. Sections for which no changes or comments were made are omitted from the analysis.

Section-by-Section Analysis

Section 243.1 What Is the Purpose of This Part?

One commenter suggested changing the phrase “reindeer industry or business” to “reindeer industry and business.” This change has been made.

Section 243.2 What Terms Do I Need To Know?

One commenter suggested changing the definition of “Alaskan reindeer” to cover all animals not covered by the definition of “Imported reindeer.” Such a change would allow Alaska Natives to expand their holdings of animals defined as Alaskan reindeer other than by in-state animal reproduction. We have rejected this suggestion because we think it is clear that the Reindeer Act was intended only to create a special class of animals which are descended from those present in Alaska when the Act was passed. However, it is recognized that two definitions in the proposed regulations did not necessarily cover all reindeer that might be found in the state, and the definition of “Imported reindeer” is therefore revised by dropping the limiting reference to importation by a non-Native, and by omitting the second sentence of the definition in the draft regulations, which made a distinction based on genealogy of animals brought into the state after promulgation of the regulations. This distinction is omitted because it is considered to be too difficult to determine whether any given reindeer, which may be imported from any location in the world outside of Alaska, is or is not descended from animals present in Alaska in 1937 but later exported from the state. With these changes, the definition of “Imported reindeer” is expanded so that the two definitions together will encompass all reindeer that may be found within the state at any given time.

Section 243.4 Who Can Own or Possess Alaskan Reindeer?

One comment was received suggesting that issuance under paragraph (e) of a Special Use Permit for Public Display be limited to situations where the use would not be in direct competition with a similar activity by a Native owner of Alaska reindeer. Although a finding that the applicant's use is competitive with a Native owner's own display activities may be a factor in the denial of an application for a Special Use Permit for Public Display, it is not considered necessary to include an explicit reference to such a criterion in the text of the regulation.

Section 243.5 Who Can Own or Possess Imported Reindeer, and What Limitations Apply?

No comments were received regarding this provision. However, in the interest of clarity, the “owner” mentioned in line 5 of paragraph (c) has been changed to “the non-Native owner.”

Section 243.6 Which Sales or Transfers Do Not Require a Permit?

One commenter observed that there was no logical need to limit the class of permit-free transfers between Alaska Natives or their organizations to transfers between “unrelated” persons or entities. This is a valid point, and in response we have omitted the word “unrelated” which appeared in the draft version of paragraph (b).

Section 243.7 How Can a Non-Native Acquire Live Reindeer?

To avoid possible confusion, we have adopted the suggestion that the term “shipped out” be substituted in place of the term “transferred” in the final line of paragraph (c) of the regulation.

Section 243.9 Who May Inherit Live Alaskan Reindeer and by What Means?

Several substantive points were raised by commenters or by the Office of Hearings and Appeals with respect to this regulation. For one thing, it was suggested that the implication in the draft regulation, to the effect that the Department of the Interior has probate jurisdiction over inheritance of Alaska reindeer, should be made explicit. This suggestion was adopted, and a new paragraph (c) has been added, including specific incorporation by reference of the governing probate regulations. It was also proposed that the authority and responsibility for preservation of Alaska reindeer after the owner's death and during the pendency of a probate proceeding be clarified. The added paragraph of the regulation also addresses this point.

Another recommendation received was that the time period allowed for a non-Native to dispose of an inherited interest in Alaska reindeer be expanded beyond the 30 days allowed in the draft regulation. This suggestion, though very reasonable and practical, was not adopted, because the text of 25 U.S.C. 500i explicitly provides for the 30-day time limit, and the regulation must conform to the underlying statutory provision.

Section 243.12 Are Alaskan Reindeer Trust Property Owned by the U.S. Government for the Benefit of Alaska Natives?

This is the section of the proposed regulations that generated by far the greatest level of interest and criticism. One comment received about this section recommended that it be deleted or substantially revised. Another comment argued that the section should explicitly provide that all Alaska reindeer are trust property. This argument overlooks the fact that only the non-Native owned portion of Alaska reindeer were acquired by the Federal Government pursuant to the 1937 Reindeer Act. It also places undue reliance on the internally contradictory language of previous reindeer loan agreements.

However, we have been persuaded to revise the caption and text of this provision, to more plainly describe the legal ownership status of different categories of reindeer, and to clarify that the program retains an element of trust, in the sense that the Federal Government continues to be obligated to carry out the purposes of the Reindeer Act, including enforcing the restrictions on alienation, retaining jurisdiction to determine inheritance of Alaska reindeer, and assuming responsibility for decedents' Alaskan reindeer pending such probate decisions.

Procedural Requirements

Regulatory Planning and Review (Executive Order 12866)

In accordance with the criteria in Executive Order 12866, this rule is not a significant regulatory action. OMB makes the final determination under Executive Order 12866.

(a) This rule will not have an annual economic effect of $100 million or adversely affect an economic sector, productivity, jobs, the environment, or other units of government. A cost-benefit and economic analysis is not required. The scale of reindeer herding in Alaska is such that the value of the entire industry, including animals and infrastructure, is less than $100 million.

(b) This rule will not create inconsistencies with other agencies' actions. The Bureau of Indian Affairs is the sole agency tasked with administration of the Reindeer Act of 1937.

(c) This rule will not materially affect entitlements, grants, user fees, loan programs, or the rights and obligations of their recipients. There are no entitlements, grants, fees, loan programs or other obligations associated with the administration of the Reindeer Act of 1937.

(d) This rule will not raise novel legal or policy issues. This rule merely formalizes commonly accepted practice for the administration of the Bureau of Indian Affairs' responsibility under the Reindeer Act of 1937.

Regulatory Flexibility Act

The Department of the Interior certifies that this rule will not have a significant economic effect on a substantial number of small entities as defined under the Regulatory Flexibility Act (5 U.S.C. 601 et seq.). The proposed regulations do not require any permitting or data gathering from Native reindeer owners, and only a very few (less than 6 per year) non-Natives who wish to acquire Alaskan reindeer will be affected, and then only by limited data gathering and not in an economic way.

Small Business Regulatory Enforcement Fairness Act (SBREFA)

This rule is not a major rule under 5 U.S.C. 804(2), the Small Business Regulatory Enforcement Fairness Act. This rule:

(a) Does not have an annual effect on the economy of $100 million or more. The entire reindeer industry in Alaska, including the value of all the animals and the supporting infrastructure, does not add up to $100 million.

(b) Will not cause a major increase in costs or prices for consumers, individual industries, Federal, State, or local government agencies, or geographic regions. These regulations only affect the administration of the Reindeer Act of 1937 and do not affect the value of, or prices received for Alaskan reindeer.

(c) Does not have significant adverse effects on competition, employment, investment, productivity, innovation, or the ability of U.S.-based enterprises to compete with foreign-based enterprises. The administration of the Reindeer Act allows Alaska Natives to compete, should they wish, with other nations' reindeer industries, and protects the industry from illegal competition from non-Natives.

Unfunded Mandates Reform Act

In accordance with the Unfunded Mandates Reform Act (2 U.S.C. 1501 et seq.):

(a) This rule will not “significantly or uniquely” affect small governments. A Small Government Agency Plan is not required. The administration of the Reindeer Act does not affect any governmental agency, but clarifies for federally recognized tribes in Alaska, the regulatory requirements for Alaskan reindeer sales to Natives and non-Natives.

(b) This rule will not produce a Federal mandate of $100 million or greater in any year; i.e., it is not a “significant regulatory action” under the Unfunded Mandates Reform Act. The entire reindeer industry in Alaska, including the value of all the animals and the supporting infrastructure, does not add up to $100 million.

Takings Implications (Executive Order 12630)

In accordance with Executive Order 12630, the rule does not have significant takings implications. A takings implication assessment is not required. The proposed regulations do not involve takings issues. They do clarify under what conditions non-Natives may acquire Alaskan reindeer, but do not affect the ownership of Alaskan reindeer by Natives, and are not expected to affect imported reindeer currently owned by non-Natives.

Federalism (Executive Order 13132)

In accordance with Executive Order 13132, the rule does not have significant federalism effects. A federalism assessment is not required. The proposed regulations do not involve any aspect of Federal-State relations.

Civil Justice Reform (Executive Order 12988)

In accordance with Executive Order 12988, the Office of the Solicitor has determined that the rule does not unduly burden the judicial system and meets the requirements of sections 3(a) and 3(b)(2) of the Order. The proposed regulations do not involve court action, nor do they provide significant use of enforcement and judicial action.

Paperwork Reduction Act

This regulation does require an information collection under the Paperwork Reduction Act. The existing OMB approval was allowed to expire because there were not sufficient reindeer in the reindeer loan program to meet the minimum PRA transactions per year. The information required under the proposed regulations is limited to names and addresses of non-Natives who wish to possess Alaska reindeer and to reports of reindeer disposition and yearly reports and is required to obtain or retain a benefit, namely reindeer. The information is used to manage the program under the Reindeer Act. The reporting or application hourly burden varies from 5 minutes to 20 minutes, depending upon the kind of report or application used. The table below explains the collection activity.

Form | Time per form | Time × number of users | Estimate cost per form | Cost per form × number of users | Federal cost @ $32.75/hour
Special use permit display | 10 minutes | 10 × 2 = 20 minutes | $1.67 | $3.34 | $10.92
Reindeer sale permit | 10 minutes | 10 × 8 = 80 minutes | 1.67 | 13.36 | 43.68
Annual report form | 10 minutes | 10 × 2 = 20 minutes | 1.67 | 3.34 | 10.92
| 5 minutes | 5 × 8 = 40 minutes | 0.84 | 6.72 | 21.84
Generic report | 15-20 minutes | 20 × 1 = 20 minutes | 3.34 | 3.34 | 10.92
Subtotals
Permit: |  | 100 minutes |  | 16.70 | 54.60
Report: |  | 80 minutes |  | 13.40 | 43.68
Totals |  | 180 = 3 hours |  | 30.10 | 98.28

Respondents may retain copies of the reports and applications submitted for their own records and to ensure that they have included all the information required, but there is no requirement for them to retain documents past the time of reporting or final disposition of the animals. Documentation has been prepared and submitted to the Desk Officer at OMB for review and approval of the information request.

The Bureau of Indian Affairs requests that interested person send their comments on this collection to the Information Collection Clearance Officer, 625 Herndon Parkway, Herndon, VA 20170. We are interested particularly in suggestions for reducing the burden.

Please note that an agency may not sponsor or request, and an individual need not respond to, a collection of information unless it has a valid OMB Control Number.

National Environmental Policy Act

We have analyzed this rule in accordance with the criteria of the National Environmental Policy Act and 516 DM. This rule does not constitute a major Federal action significantly affecting the quality of the human environment. An environmental assessment is not required. The proposed regulations do not constitute any irretrievable commitment of resources, nor will they permit environmental activities that are not otherwise regulated. The proposed regulations are merely administrative matters pertaining to the Reindeer Act of 1937.

Government-to-Government Relationship With Tribes

In accordance with the President's memorandum of April 29, 1994, “Government-to-Government Relations with Native American Tribal Governments” (59 FR 22951), and Executive Order 13175, we have evaluated potential effects on federally recognized Indian tribes and have determined that there are no potential effects. Tribes' rights, powers, and ownership options are not affected by the regulations, except as already prescribed in the Reindeer Act itself. The restrictive measures contained affect only non-Natives.

Effects on the Nation's Energy Supply (Executive Order 13211)

In accordance with Executive Order 13211, this regulation does not have a significant effect on the nation's energy supply, distribution, or use. The proposed regulations pertain only to whom and under what conditions Alaskan reindeer may be owned. There are no energy issues involved.

List of Subjects in 25 CFR Part 243

Indians—Alaska Natives, Livestock—Reindeer.

Dated: November 23, 2005.
William A. Sinclair,
Acting Principal Deputy Assistant Secretary—Indian Affairs.

For the reasons stated in the preamble, part 243 is added to chapter I of title 25 of the Code of Federal Regulations as set forth below.

PART 243—REINDEER IN ALASKA

Sec.
243.1 What is the purpose of this part?
243.2 What terms do I need to know?
243.3 Delegation of authority.
243.4 Who can own or possess Alaskan reindeer?
243.5 Who can own imported reindeer, and what limitations apply?
243.6 Which sales or transfers of Alaskan reindeer do not require a permit?
243.7 How can a non-Native acquire live reindeer?
243.8 What penalties apply to violations of this part?
243.9 Who may inherit live Alaskan reindeer and by what means?
243.10 How does the Paperwork Reduction Act affect this rule?
243.11 Are transfers of Alaskan reindeer that occurred before issuance of this part valid?
243.12 Are Alaska reindeer trust assets maintained by the U.S. Government for the benefit of Alaska Natives?
243.13 Who may appeal an action under this part?

Authority: Sec. 12, 50 Stat. 902; 25 U.S.C. 500K.

§ 243.1 What is the purpose of this part?

The Department's policy is to encourage and develop the activity and responsibility of Alaska Natives in all branches of the reindeer industry and business in Alaska, and to preserve the Native character of that industry and business. This part contains requirements governing acquisition and transferring reindeer and reindeer products in Alaska.

§ 243.2 What terms do I need to know?

Act means the Reindeer Act of September 1, 1937 (50 Stat. 900; 25 U.S.C. 500 et seq.), as amended.

Alaska Native means Eskimos, Indians, and Aleuts inhabiting Alaska at the time of the Treaty of Cession of Alaska to the United States and their descendants currently living in Alaska.

Alaskan reindeer means:

(1) All reindeer descended from those present in Alaska at the time of passage of the Act; and

(2) Any caribou introduced into animal husbandry or that has joined a reindeer herd.

BIA means the Bureau of Indian Affairs within the United States Department of the Interior.

Designee means the person assigned by the Alaska Regional Director to administer the reindeer program.

Imported reindeer means reindeer brought into Alaska from any region outside of Alaska since passage of the Act.

Native reindeer organization means any corporation, association, or other organization, whether incorporated or not, composed solely of Alaska Natives, for the purpose of engaging in or promoting the reindeer industry.

Non-Native means a person who is not an Alaska Native.

Regional Director means the officer in charge of the Alaska Regional Office of the Bureau of Indian Affairs.

Reindeer products mean the meat, hide, antlers, or any other products derived from reindeer.

Transfer means the conveyance of ownership of reindeer or reindeer products, or any interest in them or interest in an Alaska Native reindeer organization, by any method.

We, us and our mean the Regional Director or the Director's designee.

§ 243.3 Delegation of authority

The Secretary of the Interior has delegated authority under the Act through the Assistant Secretary—Indian Affairs to the Alaska Regional Director of the Bureau of Indian Affairs. All claims of ownership of reindeer in Alaska, as required by the Act (section 500b), must be filed with the Regional Director or the Director's designee.

§ 243.4 Who can own or possess Alaskan reindeer?

(a) Only Alaska Natives, organizations of Alaska Natives, or the United States for the benefit of these Natives, can own Alaskan reindeer in Alaska.

(1) Any transfer not allowed by this part is not legal, and does not confer ownership or the right to keep Alaskan reindeer, reindeer products, or any interest in them.

(2) Anyone violating this part will forfeit their reindeer or reindeer products to the Federal Government.

(b) An Alaska Native or a Native reindeer organization may transfer reindeer that they own to other Alaska Natives or Native reindeer organizations without restriction, except as provided in this part.

(c) We may maintain reindeer for research projects, so long as the purpose of the research benefits the Native reindeer industry. We retain title to these reindeer and will determine their eventual disposition.

(d) A non-Native manager of Alaskan reindeer must, by the last day of September each year:

(1) Provide us a copy of the contract with the Native reindeer owner; and

(2) Provide us a written report of all Alaskan reindeer kept, born, died or transferred.

(e) We may permit possession of a limited number of Alaskan reindeer by a non-Native applicant under a Special Use Permit for Public Display.

(1) We can revoke this permit for cause.

(2) The permit will not allow the permit-holder to keep a breeding herd (i.e., a herd that is capable of reproduction).

(3) The permit-holder must report to us in writing by the last day of September each year on all reindeer held under this permit.

§ 243.5 Who can own imported reindeer, and what limitations apply?

(a) Anyone, including non-Natives, may own imported reindeer in Alaska for any legitimate purpose, subject to State and Federal animal health laws and regulations.

(b) Imported reindeer must not be intermingled with, or be bred to, Alaskan reindeer without our written consent. Any offspring resulting from a mating with Alaskan reindeer are considered Alaskan reindeer and a non-Native owner may not maintain these reindeer alive in Alaska.

(c) This paragraph applies if a non-Native owner of imported reindeer in Alaska contracts with a Native reindeer owner to keep and manage the imported reindeer. The non-Native owner must:

(1) Distinguish the imported reindeer from the Alaskan reindeer by applying a distinctly different permanent earmark or tattoo on all imported reindeer; and

(2) Register the earmark or tattoo with the State Division of Agriculture book of livestock brand marks.

§ 243.6 Which sales or transfers of Alaskan reindeer do not require a permit?

The following transfers do not require a permit:

(a) Sale or transfer by Alaska Natives of dead reindeer or reindeer products; and

(b) Sale of transfer of live reindeer between Alaska Natives or Native reindeer organizations.

§ 243.7 How can a non-Native acquire live reindeer?

If you are a non-Native who wants to acquire live Alaskan reindeer, you must apply to us in writing. We will either grant the request and issue a written permit valid for 90 days or reject the request and give our reasons in writing. Any transfer that we authorize is subject to the following conditions:

(a) The transfer must meet the requirements of the Act and this part.

(b) Within 30 days of transfer, you must either butcher the reindeer in Alaska or ship them out of Alaska. If you ship the reindeer out alive:

(1) You must comply with all Federal and State animal health regulations governing transfers and shipments; and

(2) The reindeer and their descendants must never be brought back to Alaska alive.

(c) Within 30 days of the transfer, you must report to us the actual number of reindeer shipped out or slaughtered.

§ 243.8 What penalties apply to violations of this part?

If you are a non-Native transferee of live Alaskan reindeer who violates the provisions of this part, you are subject to the penalties in this section.

(a) Under 25 U.S.C. 500i, you can be fined up to $5000.00 if you:

(1) Take possession of reindeer without a permit issued under § 243.7; or

(2) Do not abide by the terms of a permit issued under § 243.7 (including the requirement that you slaughter or export the reindeer within 30 days and not bring them back alive into Alaska).

(b) Under 25 U.S.C. 500b, you are barred from asserting your title to the reindeer if you:

(1) Do not obtain a transfer permit from us and fully comply with its terms; or

(2) Fail to file with us a claim of title to reindeer within 30 days of acquiring them.

§ 243.9 Who may inherit live Alaskan reindeer and by what means?

(a) Privately-owned live Alaskan reindeer may pass to the deceased owner's Native heirs by descent or devise.

(b) In the event of the death of an owner of Alaskan reindeer, any direct or indirect interest by descent or devise shall be determined by the Department of Interior in a proceeding conducted in accordance with the provisions of 43 CFR part 4, subpart D. During the pendency of such a proceeding, the authority to assume control over the affected Alaskan reindeer pursuant to 43 CFR 4.270 may be exercised by the Alaska Regional Director or his designee.

(c) This paragraph applies if the final probate decree of the Department of the Interior, or the decision of any reviewing Federal court, identifies a non-Native as inheriting Alaskan reindeer. The non-Native may inherit, but must be allowed no more than 30 days from receiving the final determination of heirship to:

(1) Slaughter the reindeer;

(2) Apply for a permit to transfer the reindeer to an out-of-state transferee; or

(3) Transfer ownership of the reindeer to one or more Alaska Native family members or other Alaska Native(s).

§ 243.10 How does the Paperwork Reduction Act affect this rule?

The actions in this rule that are covered by the Paperwork Reduction Act are cleared under OMB Control Number 1076-0047. The parts subject to this control number are 243.4(d), 243.4(e), 243.5(c), 243.7, and 243.9(c). Please note, a Federal agency may not conduct or sponsor, and you are not required to respond to, a collection of information unless it displays a currently valid OMB control number.

§ 243.11 Are transfers of Alaskan reindeer that occurred before issuance of this part valid?

All transfers of live Alaskan reindeer or reindeer products that were completed before the effective date of this part are hereby ratified and confirmed. This ratification does not extend to transfers that:

(a) Were fraudulent;

(b) Were made under duress;

(c) Did not result in payment of fair compensation to the Native transferer; or

(d) Would have been prohibited under §§ 243.6 or 243.8 of this part.

§ 243.12 Are Alaska reindeer trust assets maintained by the U.S. Government for the benefit of Alaska Natives?

Only the titles to Alaskan reindeer retained for research projects, or possessed by non-Natives under Special Use Permits for Public Display, or the titles to any Alaskan reindeer which may be acquired by the Government in the future for purposes of reestablishing a reindeer loan program, are held by the United States in trust for Alaska Natives. Other Alaskan reindeer are the private property of the Alaska Native owners. However, a trust responsibility continues to exist with respect to all Alaskan reindeer, insofar as the Government remains responsible for carrying out the provisions of the Reindeer Act and these regulations, including the provisions requiring approval of transfers to non-Natives, and providing for the determination of inheritance.

§ 243.13 Who may appeal an action under this part?

Any interested party adversely affected by a decision under this part has the right of appeal as provided in 25 CFR part 2 and 43 CFR part 4, subpart D.

[FR Doc. 06-295 Filed 1-12-06; 8:45 am]

BILLING CODE 4310-W7-P